DEPARTMENT OF THE INTERIOR

Bureau of Land Management

[LLUT980300-L12100000-PH0000-24-1A]

Notice of Utah's Resource Advisory Council (RAC)

AGENCY: Bureau of Land Management, Interior.

ACTION: Notice of Utah's Resource Advisory Council (RAC).

SUMMARY: In accordance with the Federal Land Policy and Management Act (FLPMA) and the Federal Advisory Committee Act of 1972 (FACA), the U.S. Department of the Interior, Bureau of Land Management's (BLM) Utah RAC will meet as indicated below.

DATES: The Utah RAC will meet Thursday, August 4, 2011, (8:15 a.m.—5 p.m.), South Ogden Park & Ride, and Friday, August 5, 2011, (8:30 a.m.—3:30 p.m.) in Salt Lake City, Utah.

ADDRESSES: On August 4, the RAC will meet at the Park-N-Ride, Exit 405 (South Weber Drive), from Highway 89 (South Ogden). The South Weber Park & Ride is the first right crossing Highway 89 on the north side of South Weber Drive. The RAC will meet on the north end of the parking lot. Directions and further information will be provided for the field tour of the Deseret Land and Livestock Allotment (Woodruff, Utah). On August 5, the business meeting will be held at the BLM's Utah State Office, 440 West 200 South, fifth floor Monument Conference Room, Salt Lake City, Utah.

FOR FURTHER INFORMATION CONTACT: Sherry Foot, Special Programs Coordinator, Utah State Office, Bureau of Land Management, P.O. Box 45155, Salt Lake City, Utah 84145-0155; phone (801) 539-4195.

SUPPLEMENTARY INFORMATION: The 15-member Council advises the Secretary of the Interior, through the Bureau of Land Management, on a variety of planning and management issues associated with public land management in Utah. On August 4, planned agenda topics include a field tour of the Three Creeks Allotment on the Deseret Land and Livestock (DLL) in Woodruff, Utah. The RAC will view the long-term and annual benefits to wildlife, livestock water quality, and recreational opportunities of “time control” grazing. A presentation on data collected from DLL from Open Range Consulting will also take place. For tour convenience and parking at the DLL, only the first four (4) vehicles to sign on for the field tour will be permitted to accompany the RAC. These vehicles should be 4-wheel drive and have heavy-duty tires due to the terrain. To sign on for the tour, contact Sherry Foot, Special Programs Coordinator, (801) 539-4195, no later than close of business July 25, 201l.

On August 5, a business meeting will be held to discuss the ecological, social, and economic values that can be created by the proposed grazing strategy (follow-up to the field tour); RAC voting in support of the Rich County Project subgroup report; RAC subgroup report on the draft BLM Utah Instruction Memorandum on the Statewide Travel Management Planning Policy; Air Quality status update; a conference call with BLM's Director Abbey on the RAC's involvement with the America's Great Outdoors Initiative; and, Grazing/Range monitoring guidelines and protocol. The conference call with Director Abbey will take place from 1-1:45 p.m. (Mountain Time). A half-hour public comment period, where the public may address the Council, is scheduled for August 5, from 2:45-3:15 p.m. Written comments may be sent to the Bureau of Land Management addressed listed above.

All meetings are open to the public; however, transportation, lodging, and meals are the responsibility of the participating public.

Dated: June 29, 2011.
.
Juan Palma,
State Director.

[FR Doc. 2011-16831 Filed 7-5-11; 8:45 am]

BILLING CODE 4310-DQ-P